DEPARTMENT OF COMMERCE

National Oceanic and Atmospheric Administration

[RTID 0648-XE786]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of the Socio-Economic Panel (SEP) on April 14 and 15, 2025. The Scientific and Statistical Committee (SSC) will meet on April 15-17, 2025.

DATES: The SEP meeting will be held from 1:30 p.m. until 5 p.m. EDT on April 14, 2025 and from 8:30 a.m. until 12 p.m. on April 15, 2025. The SSC meeting will be held from 1:30 p.m. until 5 p.m., EDT on April 15, 2025, from 8:30 a.m. until 5 p.m. on April 16, 2025, and from 8:30 a.m. until 12 p.m. on April 17, 2025.

ADDRESSES:

Meeting address: The meetings will be held at the Town and Country Inn, 2008 Savannah Highway, Charleston, SC 29407; phone: (843) 571-1000. The meetings will also be available via webinar. Registration is required. Webinar registration, an online public comment form, and briefing book materials will be available two weeks prior to the meetings at: https://safmc.net/scientific-and-statistical-committee-meeting/.

Council address: South Atlantic Fishery Management Council, 4055 Faber Place Drive, Suite 201, N Charleston, SC 29405.

FOR FURTHER INFORMATION CONTACT: Kim Iverson, Public Information Officer, 4055 Faber Place Drive, Suite 201, North Charleston, SC 29405; phone: (843) 571-4366 or toll free: (866) SAFMC-10; fax: (843) 769-4520; email: kim.iverson@safmc.net.

SUPPLEMENTARY INFORMATION:

SSC Socio-Economic Panel

The SEP meeting agenda includes updates on active Council amendments, the Citizen Science Program, Council climate-readiness projects, and discussions relative to social and economic research at the September 2024 National SSC meeting. The SEP will review recent research efforts to collect baseline levels of knowledge about, confidence in, and trust in the citizen science process of collecting data to inform fisheries management, research related to the ongoing Snapper Grouper Management Strategy Evaluation, and the Council's Research and Monitoring Plan. The SEP will also have a discussion on how to better utilize qualitative information that is gathered during Council outreach activities to inform management in a resource-limited space. The SEP will provide recommendations for SSC and Council consideration, and conduct other business as needed.

Scientific and Statistical Committee

The SSC meeting agenda includes the review of SEDAR (Southeast Data, Assessment, and Review) 92: Atlantic Blueline Tilefish Southern Region, and SEDAR 76 Update: Black Sea Bass Operational Assessment. The SSC will review the Council's Research and Monitoring Plan, terms of reference for the 2026 gag grouper stock assessment, scopes of work for the 2027 red grouper and snowy grouper stock assessments, and results of the Joint SSC review of the mutton and yellowtail snapper stock assessments. The SSC will receive updates on the Southeast Reef Fish Sur vey 2024 trends report, Size Matters: Innovative Length Estimates (SMILE) Project, Dolphinfish Management Strategy Evaluation (MSE), and Ecopath with Ecosim with Ecospace Model. The SSC will receive updates to the SEDAR process, fishery management plan amendments, ongoing SSC workgroup progress, and conduct other business as needed.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: March 17, 2025.
Rey Israel Marquez,
Acting Deputy Director, Office of Sustainable Fisheries, National Marine Fisheries Service.

[FR Doc. 2025-04797 Filed 3-19-25; 8:45 am]

BILLING CODE 3510-22-P